DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

The purpose of this notice is to invite written comments on accrediting agencies and State approval agencies whose applications to the Secretary for initial or renewed recognition or whose interim reports will be reviewed at the Advisory Committee meeting to be held on June 3-5, 2002.

Where Should I Submit my Comments?

Please submit your written comments by March 18, 2002, to Carol Griffiths, Chief, Accrediting Agency Evaluation, Accreditation and State Liaison. You may contact her at the U.S. Department of Education, room 7105, MS 8509, 1990 K Street, NW, Washington, DC 20006, telephone: (202) 219-7011. Individuals who use a telecommunications device for the deaf (TDD) may call the Federal Information Relay Service at 1-800-877-8339.

What Is the Authority for the Advisory Committee?

The National Advisory Committee on Institutional Quality and Integrity is established under section 114 of the Higher Education Act (HEA), as amended, 20 U.S.C. 1011c. One of the purposes of the Advisory Committee is to advise the Secretary of Education on the recognition of accrediting agencies and State approval agencies.

Will This Be My Only Opportunity To Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comment.

What Happens to the Comments That I Submit?

We will review your comments, in response to this notice, as part of our evaluation of the agencies' compliance with the Secretary's Criteria for Recognition of Accrediting Agencies and State Approval Agencies. The Criteria are regulations found in 34 CFR part 602 (for accrediting agencies) and in 34 CFR part 603 (for State approval agencies).

We will also include your comments with the staff analyses we present to the Advisory Committee at its June 2002 meeting. Therefore, in order for us to give full consideration to your comments, it is important that we receive them by March 18, 2002. In all instances, your comments about agencies seeking initial or continued recognition must relate to the Criteria for Recognition. In addition, your comments for any agency whose interim report is scheduled for review must relate to the issues raised and the Criteria for Recognition cited in the Secretary's letter that requested the interim report.

What Happens to Comments Received After the Deadline?

We will review any comments received after the deadline. If such comments, upon investigation, reveal that the accrediting agency is not acting in accordance with the Criteria for Recognition, we will take action either before or after the meeting, as appropriate.

What Agencies Will the Advisory Committee Review at the Meeting?

The Secretary of Education recognizes accrediting agencies and State approval agencies for public postsecondary vocational education and nurse education if the Secretary determines that they meet the Criteria for Recognition. Recognition means that the Secretary considers the agency to be a reliable authority as to the quality of education offered by institutions or programs that are encompassed within the scope of recognition he grants to the agency. The following agencies will be reviewed during the June 2002 meeting of the Advisory Committee:

Nationally Recognized Accrediting Agencies

Petition for Initial Recognition

1. Teacher Education Accreditation Council (Requested scope of recognition: The accreditation of professional education programs in institutions offering baccalaureate and graduate degrees for the preparation of teachers K-12.)

Petitions for Renewal of Recognition

1. American Association of Nurse Anesthetists, Council on Accreditation of Nurse Anesthesia Educational Programs (Current scope of recognition: The accreditation of institutions and programs of nurse anesthesia at the certificate, master's, or doctoral degree levels.)

2. Association of Advanced Rabbinical and Talmudic Schools, Accreditation Commission (Current scope of recognition: The accreditation and preaccreditation (“Correspondent” and “Candidate”) of advanced rabbinical and Talmudic schools.)

3. American Board of Funeral Service Education, Committee on Accreditation (Current scope of recognition: The accreditation of institutions and programs awarding diplomas, associate degrees and bachelor's degrees in funeral service or mortuary science.)

4. Accrediting Commission on Education for Health Services Administration (Current scope of recognition: The accreditation throughout the United States of graduate programs in health services administration.)

5. The American Dietetic Association, Commission on Accreditation for Dietetics Education (Current scope of recognition: The accreditation of Coordinated Programs in Dietetics at both the undergraduate and graduate level, postbaccalaureate Dietetic Internships, and Dietetic Technician Programs at the associate degree level.) (Requested expansion of scope of recognition: The current scope of recognition to include the accreditation of Didactic Programs in Dietetics at both the undergraduate and graduate level, and its accreditation of programs offered via distance education.)

6. Council on Education for Public Health (Current scope of recognition: The accreditation and preaccreditation (“Preaccreditation Status”) of graduate schools of public health, graduate programs in community health education outside schools of public health, and graduate programs in community health/preventive medicine outside schools of public health.)

7. Liaison Committee on Medical Education (Current scope of recognition: The accreditation of medical education programs leading to the M.D. degree.)

8. Middle States Association of Colleges and Schools, Commission on Higher Education (Current scope of recognition: The accreditation and preaccreditation (“Candidate Status”) of institutions in Delaware, the District of Columbia, Maryland, New Jersey, New York, Pennsylvania, Puerto Rico, the U.S. Virgin Islands, the Republic of Panama and a limited number of freestanding American-style institutions abroad that are chartered or licensed by an appropriate agency within the Middle States region.)

9. National Association of Nurse Practitioners in Women's Health, Council on Accreditation (Current scope of recognition: The accreditation of women's health nurse practitioner programs located within the United States and its territories.)

10. New York Board of Regents (Current scope of recognition: The accreditation (registration) of collegiate degree-granting programs or curricula offered by institutions of higher education in the State of New York and of credit-bearing certificate and diploma programs offered by degree-granting institutions of higher education in the State of New York.)

Interim Reports

(An interim report is a follow-up report on an accrediting agency's compliance with specific criteria for recognition that was requested by the Secretary when the Secretary granted renewed recognition to the agency.)

1. Accreditation Commission for Acupuncture and Oriental Medicine.

2. American Association for Marriage and Family Therapy, Commission on Accreditation for Marriage and Family Therapy Education.

3. American Bar Association, Council of the Section of Legal Education and Admissions to the Bar.

4. American Osteopathic Association, Bureau of Professional Education.

5. American Podiatric Medical Association, Council on Podiatric Medical Education.

6. Council on Occupational Education.

7. Midwifery Education Accreditation Council.

8. National Council for Accreditation of Teacher Education.

9. North Central Association of Colleges and Schools, Executive Board of the Commission on Schools.

State Agencies Recognized for the Approval of Public Postsecondary Vocational Education

Petition for Renewal of Recognition

1. New York State Board of Regents (Public Postsecondary Vocational Education)

Interim Report

1. Oklahoma State Regents for Higher Education

State Agencies Recognized for the Approval of Nurse Education

Petition for Initial Recognition

1. North Dakota Board of Nursing

Petition for Renewal of Recognition

1. New York State Board of Regents (Nursing Education)

Where Can I Inspect Petitions and Third-Party Comments Before and After the Meeting?

All petitions and those third-party comments received in advance of the meeting, will be available for public inspection and copying at the U.S. Department of Education, room 7105, MS 8509, 1990 K Street, NW, Washington, DC 20006, telephone (202) 219-7011 between the hours of 8 a.m. and 3 p.m., Monday through Friday, until May 13, 2002. They will be available again after the June 3-5 Advisory Committee meeting. An appointment must be made in advance of such inspection or copying.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Authority: 5 U.S.C. Appendix 2.

Dated: January 24, 2002.
Kenneth W. Tolo,
Acting Deputy Assistant Secretary for Policy, Planning, and Innovation, Office of Postsecondary Education.

[FR Doc. 02-2440 Filed 1-31-02; 8:45 am]

BILLING CODE 4000-01-P